INTERNATIONAL TRADE COMMISSION

[Investigations Nos. 731-TA-846-850 (Final)]

Certain Seamless Carbon and Alloy Steel Standard, Line, and Pressure Pipe and Tube From The Czech Republic, Japan, Mexico, Romania, and South Africa

AGENCY: United States International Trade Commission.

ACTION: Revised schedule for the subject investigations.

EFFECTIVE DATE: February 17, 2000.

FOR FURTHER INFORMATION CONTACT: Bob Carr (202-205-3402), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On January 7, 2000, the Commission established a schedule for the conduct of the final phase of the subject investigations (65 FR 2430, January 14, 2000). Subsequently, the Department of Commerce extended the date for its final determinations in the investigations on Japan and South Africa from February 21, 2000 to April 27, 2000 (65 FR 6153). Commerce has also extended the date for its determinations on the Czech Republic, Mexico, and Romania to June 19, 2000. The Commission, therefore, is revising its schedule to conform with Commerce's new schedule.

The Commission's new schedule for the investigations is as follows: requests to appear at the hearing must be filed with the Secretary to the Commission not later than April 27, 2000; the prehearing conference will be held at the U.S. International Trade Commission Building at 9:30 a.m. on May 1; the prehearing staff report will be placed in the nonpublic record on April 21; the deadline for filing prehearing briefs is April 28; the hearing will be held at the U.S. International Trade Commission Building at 9:30 a.m. on May 4; the deadline for filing posthearing briefs is May 11; the Commission will make its final release of information on May 25; and, final party comments for the investigations concerning Japan and South Africa are due on May 30, while final party comments for the investigations concerning the Czech Republic, Mexico, and Romania are due no later than three business days following the release of Commerce's final determinations for those countries.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: February 18, 2000.
Donna R. Koehnke,
Secretary.

[FR Doc. 00-4497 Filed 2-24-00; 8:45 am]

BILLING CODE 7020-02-P